DEPARTMENT OF COMMERCE

International Trade Administration

[A-570-601]

Tapered Roller Bearings and Parts Thereof, Finished and Unfinished, From the People's Republic of China: Preliminary Results and Partial Rescission of the Antidumping Duty Administrative Review and Preliminary Results of the New Shipper Review; 2012-2013

AGENCY: Enforcement and Compliance, International Trade Administration, Department of Commerce.

SUMMARY: The Department of Commerce (Department) is conducting an administrative review (AR) and a new shipper review (NSR) of the antidumping duty order on tapered roller bearings and parts thereof, finished and unfinished (TRBs), from the People's Republic of China (PRC). The administrative review covers four exporters, of which the Department selected one mandatory respondent for individual examination (i.e., Changshan Peer Bearing Co. Ltd. (CPZ/SKF)). The NSR covers Shanghai Tainai Bearing Co., Ltd. (Tainai). The period of review (POR) is June 1, 2012, through May 31, 2013.

We preliminarily determined that sales have been made below normal value (NV). If these preliminary results are adopted in the final results of these reviews, we will instruct U.S. Customs and Border Protection (CBP) to assess antidumping duties on all appropriate entries. Interested parties are invited to comment on these preliminary results.

DATES: Effective Date: July 23, 2014.

FOR FURTHER INFORMATION CONTACT: Alan Ray or Stephen Banea, AD/CVD Operations, Office II, Enforcement and Compliance, International Trade Administration, U.S. Department of Commerce, 14th Street and Constitution Avenue NW., Washington, DC 20230; telephone: (202) 482-5403 and (202) 482-0656, respectively.

SUPPLEMENTARY INFORMATION:

Scope of the Order

The merchandise covered by the order includes tapered roller bearings. The subject merchandise is currently classifiable under Harmonized Tariff Schedule of the United States (HTSUS) subheadings: 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. The HTSUS subheadings are provided for convenience and customs purposes only; the written description of the scope of the order is dispositive.¹

¹ See “Decision Memorandum for Preliminary Results of Antidumping Duty Administrative Review and New Shipper Review: Tapered Roller Bearings and Parts Thereof, Finished and Unfinished, from the People's Republic of China” from Christian Marsh, Deputy Assistant Secretary for Antidumping and Countervailing Duty Operations, to Paul Piquado, Assistant Secretary for Import Administration, dated July 16, 2014 (Preliminary Decision Memorandum), issued concurrently with and hereby adopted by this notice.

Tolling of Deadlines for Preliminary Results

As explained in the memorandum from the Assistant Secretary for Enforcement and Compliance, the Department exercised its discretion to toll deadlines for the duration of the closure of the Federal Government from October 1, 2013, through October 16, 2013.² Therefore, all deadlines in this segment of the proceeding have been extended by 16 days. The revised deadline for the preliminary results of this review is now July 16, 2014.

² See the October 18, 2013, Memorandum for the Record from Paul Piquado, Assistant Secretary for Enforcement and Compliance, “Deadlines Affected by the Shutdown of the Federal Government.”

Partial Rescission of the Administrative Review

Pursuant to 19 CFR 351.213(d)(1), the Secretary will rescind an administrative review, in whole or in part, if a party who requested the review withdraws the request within 90 days of the date of publication of notice of initiation of the requested review. On September 20, 2013, and November 13, 2013, Xiangyang Automobile Bearing Co., Ltd. (Xiangyang) and GGB Bearing Technology (Suzhou) Co., Ltd. (GGB) timely withdrew their requests for an administrative review.³ No other party had requested a review of Xiangyang or GGB. Based on the timely withdrawal of the requests for review and because Xiangyang and GGB established their entitlement to separate rates from a prior segment, the Department is rescinding this administrative review with respect to Xiangyang and GGB, in accordance with 19 CR 351.213(d)(1).

³ See Letter to the Department from Xiangyang, “Withdrawal of Administrative Review Request in the Antidumping Duty Order on Tapered Roller Bearings from the People's Republic of China (POR: 06/01/12-5/31/13)” (September 20, 2013); see also Letter to the Department from GGB, “Withdrawal of Administrative Review Request in the Antidumping Duty Order on Tapered Roller Bearings from the People's Republic of China (POR: 06/01/12-5/31/13)” (November 13, 2013). GGB's letter was timely given the tolling of deadlines, explained above.

Methodology

The Department conducted these reviews in accordance with sections 751(a)(1)(A) and 751(a)(2)(B) of the Tariff Act of 1930, as amended (the Act). Constructed export prices and export prices have been calculated in accordance with section 772 of the Act. Because the PRC is a non-market economy (NME) within the meaning of section 771(18) of the Act, NV has been calculated in accordance with section 773(c) of the Act. Specifically, the respondents' factors of production have been valued using surrogate values from Thailand, which is economically comparable to the PRC and a significant producer of comparable merchandise.

For a full description of the methodology underlying our conclusions, see the Preliminary Decision Memorandum.⁴ The Preliminary Decision Memorandum is a public document and is on file electronically via Enforcement and Compliance's Antidumping and Countervailing Duty Centralized Electronic Service System (IA ACCESS). IA ACCESS is available to registered users at http://iaaccess.trade.gov; the Preliminary Decision Memorandum is also available to all parties in the Central Records Unit, Room 7046 of the main Department of Commerce building. In addition, a complete version of the Preliminary Decision Memorandum can be accessed directly on the Enforcement and Compliance's Web site at http://www.trade.gov/ia/. The signed Preliminary Decision Memorandum and the electronic version of the Preliminary Decision Memorandum are identical in content.

⁴ See Preliminary Decision Memorandum.

Preliminary Results of Review

Regarding the administrative review, we preliminarily determine that the following weighted-average dumping margins exist for the period June 1, 2012, through May 31, 2013:

Exporters | Weighted- average percent margin
Changshan Peer Bearing Co., Ltd | 0.60
Zhejiang Zhaofeng Mechanical and Electronic Co., Ltd. * | 0.60
* This company demonstrated that it qualified for a separate rate in this administrative review. The rate for this company is the calculated weighted-average dumping margin for CPZ/SKF. See the Preliminary Decision Memorandum.

Regarding the NSR, we preliminarily determine that the following weighted-average dumping margin exists for the period June 1, 2012, through May 31, 2013:

Exporters | Weighted- average percent margin
Shanghai Tainai Bearing Co., Ltd | 0.00

Disclosure and Public Comment

The Department will disclose calculations performed for these preliminary results to the parties within five days of the date of publication of this notice in accordance with 19 CFR 351.224(b). Interested parties may submit case briefs no later than 30 days after the date of publication of these preliminary results of review.⁵ Rebuttals to case briefs may be filed no later than five days after the written comments are filed and all rebuttal comments must be limited to comments raised in the case briefs.⁶

⁵ See 19 CFR 351.309(c).

⁶ See 19 CFR 351.309(d).

Any interested party may request a hearing within 30 days of publication of this notice.⁷ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 14th Street and Constitution Avenue NW., Washington, DC 20230.⁸

⁷ See 19 CFR 351.310(c).

⁸ See 19 CFR 351.310(d).

The Department will issue the final results of this administrative review and this NSR, which will include the results of its analysis of all issues raised in the case briefs, within 120 days of publication of these preliminary results, pursuant to section 751(a)(3)(A) of the Act.

Assessment Rates

Upon issuance of the final results, the Department shall determine, and CBP shall assess, antidumping duties on all appropriate entries covered by these reviews.⁹ The Department intends to issue assessment instructions to CBP 15 days after the publication of the final results of these reviews.

⁹ See 19 CFR 351.212(b).

For each individually-examined respondent in these reviews (i.e., CPZ/SKF and Tainai) which has a weighted-average dumping margin which is not zero or de minimis (i.e., less than 0.5 percent), we will calculate importer-specific ad valorem duty assessment rates based on the ratio of the total amount of dumping calculated for the importer's examined sales to the total entered value of those sales, in accordance with 19 CFR 351.212(b)(1). For the respondents which were not selected for individual examination in this administrative review and which qualified for a separate rate, the assessment rate will be equal to the weighted-average dumping margin assigned to CPZ/SKF in the final results of this administrative review.

The Department recently announced a refinement to its assessment practice in NME cases.¹⁰ Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate. For a full discussion of this practice, see NME Antidumping Proceedings.

¹⁰ See Non-Market Economy Antidumping Proceedings: Assessment of Antidumping Duties, 76 FR 65694 (October 24, 2011) (NME Antidumping Proceedings).

We will instruct CBP to assess antidumping duties on all appropriate entries covered by these reviews. Where either of the respondent's weighted-average dumping margin is zero or de minimis, or an importer-specific assessment rate is zero or de minimis, we will instruct CBP to liquidate the appropriate entries without regard to antidumping duties.

Cash Deposit Requirements

The following cash deposit requirements will be effective upon publication of the final results of this administrative review for all shipments of the subject merchandise entered, or withdrawn from warehouse, for consumption on or after the publication date, as provided for by section 751(a)(2)(C) of the Act: (1) For the exporters listed above which have a separate rate, the cash deposit rate will be the rate established in the final results of this review (except, if the rate is zero or de minimis, then a cash deposit rate of zero will be established for that company); (2) for previously investigated or reviewed PRC and non-PRC exporters not listed above that have separate rates, the cash deposit rate will continue to be the exporter-specific rate published for the most recently completed segment of this proceeding; (3) for all PRC exporters of subject merchandise that have not been found to be entitled to a separate rate, the cash deposit rate will be the rate for the PRC-wide entity, 92.84 percent; and (4) for all non-PRC exporters of subject merchandise which have not received their own rate, the cash deposit rate will be the rate applicable to the PRC exporter(s) that supplied that non-PRC exporter.

With respect to the NSR, consistent with the Department's practice, the Department has established a combination cash deposit rate for Tainai as follows: (1) For subject merchandise exported and produced by Tainai, the cash deposit rate will be the rate established for the company in the final results of this review; (2) for subject merchandise exported by Tainai but not produced by Tainai, the cash deposit rate will be the rate for the PRC-wide entity, 92.84 percent; (3) for subject merchandise produced by Tainai but not exported by Tainai, the cash deposit rate will be the rate applicable to that exporter.

These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing these preliminary results of reviews in accordance with sections 751(a)(l), 751(a)(2)(B) and 777(i)(l) of the Act, and 19 CFR 351.221(b)(4).

Dated: July 16, 2014.
Paul Piquado,
Assistant Secretary for Enforcement and Compliance.

Appendix—List of Topics Discussed in the Preliminary Decision Memorandum

1. Summary

2. Background

3. Scope of the Order

4. Bona Fides Analysis

5. Discussion of the Methodology

a. Non-Market Economy Country

b. Separate Rates

c. Separate Rate for Non-Selected Companies

d. Surrogate Country

e. Date of Sale

f. Normal Value Comparisons

6. Conclusion

[FR Doc. 2014-17350 Filed 7-22-14; 8:45 am]

BILLING CODE 3510-DS-P